DEPARTMENT OF LABOR

Employment and Training Administration

Notice of Determinations Regarding Eligibility To Apply for Worker Adjustment Assistance and NAFTA Traditional Adjustment Assistance

In accordance with section 223 of the Trade Act of 1974, as amended, the Department of Labor herein presents summaries of determinations regarding eligibility to apply for trade adjustment assistance for workers (TA-W) issued during the period of April, 2002.

In order for an affirmative determination to be made and a certification of eligibility to apply for worker adjustment assistance to be issued, each of the group eligibility requirements of section 222 of the Act must be met.

(1) that a significant number or proportion of the workers in the workers' firm, or an appropriate subdivision thereof, have become totally or partially separated,

(2) that sales or production, or both, of the firm or subdivision have decreased absolutely, and

(3) that increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-40,914; Harsco Track Technologies, Luddington, MI

TA-W-40,742; Huhtamaki Foodservice, Inc., FSBU, Waterville, ME

TA-W-40,612; Odetics, Inc., GYYR CCTV Div., Anaheim, CA

TA-W-40,529; L-S Electro Galvanizing Co., Cleveland, OH

TA-W-40,475; Quality Tool and Die, Inc., Meadville, PA

TA-W-40,163; Acu-Crimp, Inc., El Paso, TX

TA-W-41,196; Textile Parts and Machine Co., Gastonia, NC

TA-W-40, 343; Specialty Minerals (Michigan), Inc., Plainwell, MI

TA-W-40,376; Wheeling Corrugating Co., Kirkwood, NY

TA-W-40,843; Superior Milling, Inc., Watersmeet, MI

In the following cases, the investigation revealed that the criteria for eligibility have not been met for the reasons specified.

Increased imports did not contribute importantly to worker separations at the firm.

TA-W-39,881; Marley Cooling Tower Co., Louisville, KY

TA-W-40,269; Wheeling Corrugating Co., Klamath Falls, OR

TA-W-40,109; Innovex, Inc., Litchfield, MN

TA-W-40,442; CNH Global N.V., Burlington, IA

TA-W-40,768; Bor Warner, Inc., Transmission Systems, Coldwater, MI

TA-W-40,856 & A; Powermatic Corp., Manufacturing, McMinnville, TN

The workers firm does not produce an article as required for certification under Section 222 of the Trade Act of 1974.

TA-W-41,164; Britax Health Techna, Inc., Aircraft Interior System, Bellingham, WA

TA-W-40,161; JVC Digital Image, Carlsbad, CA

TA-W-581; Young Men's Shop, Inc., Altoona, PA

TA-W-40,798; Ocwen Technology Xchange, Ocwen Federal Bank FSB, West Palm Beach, FL

TA-W-40,389; BP Amoco Oil Co., Chicago, IL

TA-W-40,743; Hewlett Packard, Colorado Springs, CO

TA-W-40,548; BP Exploration Alaska, Inc., Prudhoe Bay, AK

TA-W-40,426; Gilbert Western Corp. on Location at the East Boulder Mine Site, Omaha, NE

TA-W-40,961; Foster Wrecking Yard, Stamford, TX

The investigation revealed that criteria (2) has not been met. Sales or production did not decline during the relevant period as required for certification.

TA-W-39,432; Columbus Industries, Ashville, OH

TA-W-40,170; Amerex Corp., New York, NY

TA-W-40,915; Trend Technologies, Round Rock, TX

Affirmative Determinations for Worker Adjustment Assistance

The following certifications have been issued; the date following the company name and location of each determination references the impact date for all workers of such determination.

TA-W-40,012; Polymer Sealing Solutions, Forsheda Engineered Seals, Vandalia, IL: August 27, 2000.

TA-W-40,335; Phelps Dodge Sierrita, Inc., Green Valley, AZ: October 26, 2000.

TA-W-40,539; Kemmer Prazision, Chicago, IL: December 13, 2000.

TA-W-40,534; Littleford Day, Inc., Florence, KY: December 24, 2000.

TA-W-40,569; Tama Sportswear, Long Island City, NY: November 6, 2000.

TA-W-40,708; Cannon County Knitting Mills, Inc., Smithville, TN: January 7, 2001.

TA-W-40,761; Lou Levy & Sons Fashions, Inc., New York, NY: May 18, 2001.

TA-W-39,792; Kinston Apparel Manufacturing Co., A Subsidiary of Brooks Brothers, Inc., Kinston, NC: July 30, 2000.

TA-W-40,893; Danbury Fabrics LTD, Ridgewood, NY: October 25, 2000.

TA-W-40,965; L.E. Mason Co., Thomas and Betts Corp., Boston, MA: February 5, 2001.

TA-W-40,956; Bead Industries, Inc., Bridgeport, CT: February 2, 2001.

TA-W-40,793; ATR Wire and Cable Co., Inc., Danville, KY: January 4, 2001.

TA-W-40,733; Blauer Manufacturing Co., Inc., CAM Div., Chatom, AL: December 18, 2000.

TA-W-40,807 & A & B; Down East Woodcrafters, Skowhegan, ME, Madison, ME and Bath, ME: January 9, 2001.

TA-W-41,154; Justin Brands, Inc. El Paso, TX: January 31, 2001.

TA-W-41,099; Olamon Industries, Old Town, ME: March 8, 2001.

TA-W-40,889; Nordic Delight Foods, Lubec, ME: November 8, 2000.

TA-W-41,045; Modine Manufacturing Co., Heavy Duty and Industrial Div., LaPorte, IN: February 27, 2001.

TA-W-40,821; Getchell Gold Corp., Golconda, NV: October 23m 2001.

TA-W-40,725; TI Automotive Systems, LLC, Coldwater, MI: December 7, 2000.

TA-W-40,608; The Boeing Co., Boeing Commercial Aircraft, Tulsa Div., Oak Ridge, TN: November 21, 2000.

TA-W-40,566 & A; Angelica Image Apparel, Winona, MS and Tishomingo, MS: October 16, 2000.

TA-W-40,522; Johnston Controls Retail, Reynoldsburg, OH: October 17, 2000.

TA-W-40,286; Tyco International Ltd, Tyco Electronics Corp., Rock Hill, SC: October 3, 2000.

TA-W-40,089; Bank Manufacturing Co., Havelock, NC: September 4, 2001.

TA-W-30,674; Pennsylvania Steel Technologies, Steelton, PA: July 3, 2000.

TA-W-39,657; Weirton Steel Corp., Weirton, WV: July 3, 2000.

TA-W-39,638; Wesbar Corp., West Bend, WI: June 26, 2000.

Also, pursuant to Title V of the North American Free Trade Agreement Implementation Act (Pub. L. 103-182) concerning transitional adjustment assistance hereinafter called (NAFTA-TAA) and in accordance with section 250(a), subchapter D, chapter 2, Title II, of the Trade Act as amended, the Department of Labor presents summaries of determinations regarding eligibility to apply for NAFTA-TAA issued during the month of April, 2002.

In order for an affirmative determination to be made and a certification of eligibility to apply for NAFTA-TAA the following group eligibility requirements of section 250 of the Trade Act must be met:

(1) That a significant number or proportion of the workers in the workers' firm, or an appropriate subdivision thereof, (including workers in any agricultural firm or appropriate subdivision thereof) have become totally or partially separated from employment and either—

(2) that sales or production, or both, of such firm or subdivision have decreased absolutely,

(3) that imports from Mexico or Canada of articles like or directly competitive with articles produced by such firm or subdivision have increased, and that the increased imports contributed importantly to such workers' separations or threat of separation and to the decline in sales or production of such firm or subdivision; or

(4) that there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-05366; Acu-Crimp, Inc., El Paso, TX

NAFTA-TAA-05435; CNH Global N.V., Burlington, IA

NAFTA-TAA-05446; Wheeling Corrugating Co., Klamath Falls, OR

NAFTA-TAA-05593; The Boeing Co., Boeing Commercial Aircraft, Tulsa Div., Oak Ridge, TN

NAFTA-TAA-05733; Charmilles Technologies Manufacturing Corp., Owosso, MI

NAFTA-TAA-05767; Huhtamaki Food Service, Inc., FSBU, Waterville, ME

NAFTA-TAA-05776; Blouer Manufacturing Co., Inc., CAM Div., Chatom, AL

NAFTA-TAA-05713; Borg Warner, Inc., Transmission Systems, Coldwater, MI

NAFTA-TAA-05742; Cannon County Knitting Mills, Inc., Smithville, TN

NAFTA-TAA-05885A, B & C; Price Pfister, Machining Dept., Pacoima, CA, Screw Machining Dept, Pacoima, CA and Fabrication Dept., Pacoima, CA

The workers firm does not produce an article as required for certification under Section 250(a), Subchapter D, Chapter 2, Title II, of the trade Act of 1974, as amended

NAFTA-TAA-05918; Britax Health Techna, Inc., Aircraft Interior Systems, Bellingham, WA

NAFTA-TAA-05350; JVC Digital Image Technology Center, Carlsbad, CA

NAFTA-TAA-05563; Bliss Clearing Niagara, Inc., (Formerly Doing Business as CNB International, Inc.), Hastings, MI

The investigation revealed that criteria (1) have not been met. A significant number or proportion of the workers in such workers' firm or an appropriate subdivision including workers in any agricultural firm or appropriate sub-division thereof) did not become totally or partially separated from employment.

NAFTA-TAA-05802A & B; Justin Brands, Inc., Carthage, MO and Cassville, MO

Affirmative Determinations NAFTA-TAA

NAFTA-TAA-05911; Modine Manufacturing Co., Heavy Duty and Industrial Div., LaPorte, IN: February 27, 2001.

NAFTA-TAA-5802; Justin Brands, Inc., El Paso, TX: February 4, 2001.

NAFTA-TAA-05982 & A; Blough-Wagner Manufacturing Co., Inc., Middleburg, PA and Elysburg, PA: January 15, 2001.

NAFTA-TAA-05885; Price Pfister, Finishing Dept., Pacoima, CA: January 28, 2001.

NAFTA-TAA-05839; Square D. Company, Design Center, Oshkosh, WI: April 14, 2002.

NAFTA-TAA-04982; Future Knits, Pineville, NC: June 12, 2000.

NAFTA-TAA-05097; NYCO Minerals, Inc., Willsboro, NY: June 1, 2000.

NAFTA-TAA-05760; Donaldson Co., Inc., Gas Turbine Filter Dept, Nicholasville, KY: January 25, 2001.

NAFTA-TAA-05772; ASARCO, Inc., Amarillo, TX: January 3, 2001.

NAFTA-TAA-05300; Polymer Sealing Solutions, Forsheda Engineered Seals, Vandalia, IL: August 24, 2000.

NAFTA-TAA-05394; Bond Technologies, A Div. Of Emerson Electric Co., Huntington Beach, CA: September 27, 2000.

NAFTA-TAA-05488; Phelps Dodge Sierrita, Inc., Green Valley, AZ: October 29, 2000.

NAFTA-TAA-05803; Optek Technology, Inc., Carrollton, TX: November 23, 2000.

NAFTA-TAA-05820; Albany International Corp., Greschmay Plant, Greenville, SC: January 28, 2001.

NAFTA-TAA-05861; L.E. Mason Co., Thomas & Betts Corp., Boston MA: February 5, 2001.

NAFTA-TAA-05877; Nibco, Inc., South Glens Falls, NY: December 18, 2000.

NAFTA-TAA-05938; York International, Unitary Products Group, Elyria, OH: March 6, 2001.

NAFTA-TAA-05969; General Electric Industrial Systems, Somersworth, NH: March 20, 2001.

I hereby certify that the aforementioned determinations were issued during the month of April, 2002. Copies of these determinations are available for inspection in Room C-5311, U.S. Department of Labor, 200 Constitution Avenue, NW, Washington, DC 20210 during normal business hours or will be mailed to persons who write to the above address.

Dated: April 26, 2002.
Edward A. Tomchick,
Director, Division of Trade Adjustment Assistance.

[FR Doc. 02-10890 Filed 5-1-02; 8:45 am]

BILLING CODE 4510-30-M